DEPARTMENT OF HEALTH AND HUMAN SERVICES

Centers for Disease Control and Prevention

[30Day-48-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project

The National Death Index (NDI)—Extension—OMB No. 0920-213 National Center for Health Statistics (NCHS), Centers for Disease Control and Prevention (CDC). The National Death Index (NDI) is a service of the National Center for Health Statistics that assists health and medical researchers determine the vital status of their study subjects. The NDI is a national data base containing identifying death record information submitted annually to NCHS by all the state vital statistics offices, beginning with deaths in 1979. Searches against the NDI file provide the states and dates of death and the death certificate numbers of deceased study subjects. With the recent implementation of the NDI Plus service, researchers now have the option of also receiving cause of death information for deceased subjects, thus reducing the need to request copies of death certificates from the states. The NDI Plus option currently provides the ICD codes for the underlying and multiple causes of death for the years 1979-1999. The five administrative forms are completed by health researchers in government, universities, and private industry in order to apply for NDI services and to submit records of study subjects for computer matching against the NDI file. The total burdens for this data collection is 227 hours.

Form | Number of respondents | Number of responses/respondents | Avg. burden/response (in hrs.)
Form A | 50 | 1 | 2 30/60
Form B | 70 | 1 | 18/60
Form C | 120 | 1 | 18/60
Form D | 10 | 50 | 3/60
Form E | 40 | 1 | 30/60

Dated: September 17, 2001.
Nancy E. Cheal,
Acting Associate Director for Policy, Planning, and Evaluation Centers for Disease Control and Prevention (CDC).

[FR Doc. 01-24020 Filed 9-25-01; 8:45 am]

BILLING CODE 4163-18-P